FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: Request for Loan Information Verification.

Type of Information Collection: Reinstatement, without change of a previously approved collection for which approval has expired.

OMB Number: 3067-0125.

Abstract: Temporary Housing Assistance (Disaster Housing Assistance) uses mobile homes, travel trailers, or other forms of readily fabricated housing. FEMA Form 90-68 is used to obtain information required to determine a fair and equitable sales price of a mobile home to a disaster victim. The ability to borrow money commercially is an important factor in determining the final sales price.

Affected Public: Individuals or households; Business or other for profit.

Number of Respondents: 520.

Estimated Time per Respondent: 10 minutes.

Estimated Total Annual Burden Hours: 86 hours.

Frequency of Response: On occasion.

COMMENTS: Interested persons are invited to submit written comments on the proposed information collection to the Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, Chief, Records Management Branch, Program Services Division, Operation Support Directorate, Federal Emergency Management Agency, 500 C Street, SW, Room 316, Washington, DC 20472, telephone number (202) 646-2625, FAX number (202) 646-3524, or e-mail address: muriel.anderson@fema.gov.

Dated: June 28, 2000.
Reginald Trujillo,
Director, Program Services Division, Operations Support Directorate.

[FR Doc. 00-17364 Filed 7-7-00; 8:45 am]

BILLING CODE 6718-01-U